PENSION BENEFIT GUARANTY CORPORATION

29 CFR Chapter XL

Reducing Regulatory Burden; Review Under E.O. 13563

AGENCY: Pension Benefit Guaranty Corporation.

ACTION: Request for comments.

SUMMARY: The Pension Benefit Guaranty Corporation (PBGC) is reviewing its regulations in response to the President's Executive Order 13563 on Improving Regulation and Regulatory Review. The purpose of this review is to make PBGC's regulatory program both more effective and less burdensome. We are starting by identifying regulations for possible modification, streamlining, or repeal, which will be incorporated into a preliminary regulatory review plan. For now, we are asking the public for ideas and information—to suggest candidate regulations for review, alternative approaches, etc.—to help prepare the preliminary plan. There will be additional opportunities for public comment after the preliminary plan is developed and approved.

DATES: PBGC requests that written comments and information on developing the preliminary plan be submitted by April 20, 2011. PBGC will take into consideration comments received after that date to the extent feasible.

FOR FURTHER INFORMATION CONTACT: Catherine B. Klion, Manager, (klion.catherine@pbgc.gov), or Daniel S. Liebman, Attorney, (liebman.daniel@pbgc.gov), Regulatory and Policy Division, Legislative and Regulatory Department, Pension Benefit Guaranty Corporation, 1200 K Street, NW., Washington, DC 20005, 202-326-4024. (TTY/TDD users may call the Federal relay service toll-free at 1-800-877-8339 and ask to be connected to 202-326-4024.)

ADDRESSES: Comments, identified by “Regulatory Review”, may be submitted by any of the following methods:

• Federal eRulemaking Portal: http://www.regulations.gov. Follow the web site instructions for submitting comments.

• E-mail: reg.comments@pbgc.gov.

• Fax: 202-326-4224.

• Mail or Hand Delivery: Legislative and Regulatory Department, Pension Benefit Guaranty Corporation, 1200 K Street, NW., Washington, DC 20005-4026.

Comments received, including personal information provided, will be posted to http://www.pbgc.gov. Copies of comments may also be obtained by writing to Disclosure Division, Office of the General Counsel, Pension Benefit Guaranty Corporation, 1200 K Street, NW., Washington DC 20005-4026, or calling 202-326-4040 during normal business hours. (TTY and TDD users may call the Federal relay service toll-free at 1-800-877-8339 and ask to be connected to 202-326-4040.)

SUPPLEMENTARY INFORMATION: PBGC protects the pensions of about 44 million people in about 29,000 private defined benefit plans. PBGC receives no funds from general tax revenues. Operations are financed by insurance premiums, investment income, assets from pension plans trusteed by PBGC, and recoveries from the companies formerly responsible for the trusteed plans.

To carry out these functions, PBGC issues regulations interpreting such matters as the termination process for defined benefit plans, establishment of procedures for premium payments, reporting and disclosure, and assessment and collection of employer liability. Regulatory objectives and priorities are developed in the context of PBGC's statutory purposes:

• To encourage voluntary private pension plans;

• To provide for the timely and uninterrupted payment of pension benefits; and

• To keep premiums at the lowest possible levels.

PBGC's intent is to issue regulations that implement the law in ways that do not impede the maintenance of existing defined benefit plans or the establishment of new plans. PBGC attempts to minimize administrative burdens on plans and participants, improve transparency, simplify filing, provide relief for small businesses, and assist plans to comply with applicable requirements. PBGC is committed to issuing simple, understandable, and timely regulations to help affected parties.

On January 18, 2011, the President issued Executive Order 13563, “Improving Regulation and Regulatory Review,” to ensure that Federal regulations seek more affordable, less intrusive means to achieve policy goals, and that agencies give careful consideration to the benefits and costs of those regulations. Among other things, the Executive Order directed agencies to develop and submit a preliminary plan within 120 days that will explain how they will periodically review existing significant regulations to identify any regulations that can be made more effective or less burdensome in achieving regulatory objectives. In the spirit of the Executive Order, PBGC is applying the retrospective review to all of PBGC's existing regulations (not only significant regulations).

PBGC is taking several immediate steps to launch this review of existing regulatory requirements. Consistent with its commitment to public participation, PBGC is soliciting views from the public on how best to conduct its analysis of existing PBGC regulations and how best to identify those regulations that might be modified, streamlined, expanded or repealed. PBGC promulgates regulations in accordance with applicable laws and based on best available information, analyses of different alternatives for agency action, and public participation and input. However, important information as to the consequences of a regulation, including its costs and benefits, comes from practical, real-world experience (both on the part of the public and on the part of the agency) after the regulation has been implemented. Regulated entities and members of the public affected by or interested in PBGC's regulations are likely to have useful information and perspectives on the benefits and burdens of existing regulatory requirements in light of experience since the regulations were issued. Interested parties may also be well-positioned to identify those rules that are most in need of review. PBGC would find such input helpful as it considers how to prioritize and properly tailor its retrospective review process for PBGC's regulations. In short, engaging the public in an open, transparent process is a crucial step in PBGC's review of its existing regulations.

Although PBGC expects to eliminate regulations that are no longer warranted, PBGC will also consider strengthening, complementing, or modernizing regulations where necessary or appropriate—including, as relevant, undertaking new rulemakings. PBGC reminds the public that this review is for existing regulations and not proposed regulations and asks the public not to use this process to submit comments on proposed rules.

PBGC intends for its preliminary plan to include an initial list of candidate regulations for retrospective review.

Questions for the Public

Below is a list of preliminary questions, the answers to which will assist PBGC in its efforts to develop a preliminary plan for the retrospective review of its existing regulations and to identify those regulations that may benefit from a retrospective review. In addressing these questions, commenters should identify, with specificity, the regulation at issue, providing the Code of Federal Regulation (CFR) cite where available. PBGC also requests that commenters provide, in as much detail as possible, an explanation why they believe a regulation should be modified, streamlined, expanded, or repealed, as well as specific suggestions of ways PBGC can better achieve its regulatory objectives. Particularly where comments relate to a rule's costs or benefits, comments will be most useful if there are data and experience under the rule available to ascertain the rule's actual impact. Commenters might also address how PBGC can best obtain and consider accurate, objective information and data about the costs, burdens, and benefits of existing regulations and whether there are existing sources of data that PBGC can use to evaluate the effects of its regulations over time.

PBGC encourages the public to emphasize those rules that have been in effect for a sufficient amount of time to warrant a fair evaluation.

In providing comments, please keep these key considerations in mind:

• Retrospective review does not allow PBGC to contravene requirements of its various statutory mandates. In addition, where PBGC's discretion has been limited by law, PBGC's ability to modify, streamline, expand, or repeal regulations is similarly constrained.

• PBGC's plan will be tailored to reflect PBGC's resources, rulemaking history, and the volume of regulations at issue.

These questions are not intended to be exhaustive. Commenters may raise other issues or make suggestions unrelated to these questions that they believe would help PBGC develop better regulations.

(1) How can PBGC identify those rules that can and should be changed, streamlined, consolidated, or removed? What factors should PBGC consider in selecting and prioritizing rules for review? PBGC encourages those submitting comments to include a proposed process under which such a review could be regularly undertaken.

(2) Does PBGC have rules or guidance that are duplicative or that have conflicting requirements with other agencies? Does PBGC currently collect information that it does not need or use effectively to achieve regulatory objectives?

(3) Are there regulations that have become unnecessary and can be withdrawn without impairing PBGC's regulatory programs?

(4) Are there rules that are ineffective and if so, how can they be made effective?

(5) Are there rules that are not tailored to impose the least burden on the public? What are some suggestions that PBGC can use to reduce the burden on such rules as well as suggestions that generally assure that PBGC's regulations promote and achieve its mission in ways that are efficient and less burdensome?

(6) Are there rules that have become outdated and, if so, how can they be modernized to better accomplish their regulatory objectives?

(7) Are there rules that are still necessary, but which have not operated as well as expected such that a modified, stronger, or slightly different approach is justified?

(8) Are there regulations, or regulatory processes that are unnecessarily complicated or could be streamlined to achieve regulatory objectives more efficiently?

(9) Are there any technological developments that can be leveraged to modify, streamline, or repeal any existing regulatory requirements?

(10) How can PBGC best obtain and consider accurate, objective information and data about the costs, burdens, and benefits of existing regulations? Are there existing sources of data PBGC can use to evaluate the effects of regulations over time?

(11) Are there regulations that are working well that can be expanded or used as a model to fill gaps in other PBGC regulatory programs?

PBGC notes that this Request for Comment is issued solely for information and program-planning purposes. The agency will give careful consideration to the responses, and may use them as appropriate during the retrospective review, but does not anticipate providing a response to each comment submitted. However, all submissions will be made publically available on http://www.regulations.gov. Responses to this Request for Comment do not bind PBGC to any further actions related to the response.

Issued in Washington, DC, on this 29th day of March 2011.
Joshua Gotbaum,
Director, Pension Benefit Guaranty Corporation.

[FR Doc. 2011-7805 Filed 3-31-11; 8:45 am]

BILLING CODE 7709-01-P